DEPARTMENT OF VETERANS AFFAIRS

Rehabilitation Research and Development Service Scientific Merit Review Board; Notice of Meeting

The Department of Veterans Affairs (VA) gives notice under Public Law 92-463 (Federal Advisory Committee Act) that a teleconference meeting of the Spinal Cord Injury & Regenerative Medicine Subcommittee of the Rehabilitation Research and Development Service Scientific Merit Review Board will be held November 4, 2010, in Room 933 at the Greenhoot Cohen Building, 1722 I Street, NW., Washington, DC, at 2 p.m. The meeting will be closed to the public for the discussion, examination, reference to, and oral review of the research proposals and critiques.

The purpose of the Board is to review rehabilitation research and development applications and advise the Director, Rehabilitation Research and Development Service, and the Chief Research and Development Officer on the scientific and technical merit, the mission relevance, and the protection of human and animal subjects.

During the meeting, discussion and recommendations will include qualifications of the personnel conducting the studies (the disclosure of which would constitute a clearly unwarranted invasion of personal privacy), as well as research information (the premature disclosure of which would likely compromise significantly the implementation of proposed agency action regarding such research projects). As provided by subsection 10(d) of Public Law 92-463, as amended by Public Law 94-409, closing the meeting is in accordance with 5 U.S.C. 552b(c)(6) and (9)(B).

For further information, please contact Tiffany Asqueri, Designated Federal Officer, Rehabilitation Research and Development Service, Department of Veterans Affairs, 810 Vermont Avenue, NW., Washington, DC 20420, at (202) 461-1740 or tiffany.asqueri@va.gov.

Dated: October 18, 2010.
By Direction of the Secretary.
Vivian Drake,
Acting Committee Management Officer.

[FR Doc. 2010-26556 Filed 10-21-10; 8:45 am]

BILLING CODE P